NATIONAL SCIENCE FOUNDATION

Advisory Committee for Engineering; Notice of Meeting

In accordance with Federal Advisory Committee Act (Pub. L. 92-463, as amended), the National Science Foundation announces the following meeting:

Name: Advisory Committee for Engineering (1170).

Date/Time: November 3, 2004, 8 a.m.-6 p.m.; November 4, 2004, 8 a.m.-3 p.m.

Place: Holiday Inn Arlington—Ballston, 4610 North Fairfax Drive, Arlington, VA 22230.

Type of Meeting: Open.

Contact Person: Deborah Young, Administrative Officer, Office of the Assistant Director for Engineering 703-292-8301.

Purpose of Meeting: To provide advice, recommendations and counsel on major goals and policies pertaining to engineering programs and activities.

Reason for Late Notice: Due to administrative complications.

Agenda: The principal focus of the forthcoming meeting will be on strategic issues, both for the Directorate and the Foundation as a whole. The Committee will also address matters relating to the future of the engineering profession and engineering education.

Dated: October 25, 2004.
Susanne Bolton,
Committee Management Officer.

[FR Doc. 04-24115 Filed 10-27-04; 8:45 am]

BILLING CODE 7555-01-M